DEPARTMENT OF ENERGY

Federal Energy Regulatory Commission

[Docket No. RP03-483-000]

Northwest Pipeline Corporation; Notice of Proposed Changes in FERC Gas Tariff

May 30, 2003.

Take notice that on May 27, 2003, Northwest Pipeline Corporation (Northwest) tendered for filing as part of its FERC Gas Tariff, Third Revised Volume No. 1, the following tariff sheets, to be effective June 27, 2003.

First Revised Sheet No. 125.

First Revised Sheet No. 126.

First Revised Sheet No. 127.

First Revised Sheet No. 128.

Original Sheet No. 129.

Sheet Nos. 130 through 199.

Eighth Revised Sheet No. 363.

Eighth Revised Sheet No. 365.

Northwest states that the purpose of this filing is to revise Northwest's park and loan service under Rate Schedule PAL by adding a park point and loan point adjacent to the Jackson Prairie storage facility in Lewis County, Washington.

Northwest states that a copy of this filing has been served upon its customers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 9, 2003.

Magalie R. Salas,
Secretary.

[FR Doc. 03-14243 Filed 6-5-03; 8:45 am]

BILLING CODE 6717-01-P